DEPARTMENT OF THE INTERIOR

Bureau of Land Management

[NM-010-04-1610-DO-NM03]

Kasha-Katuwe Tent Rocks National Monument, Sandoval County, NM

AGENCY: Bureau of Land Management (BLM), Interior.

ACTION: Notice of intent.

SUMMARY: The BLM Field Office, Albuquerque, New Mexico, intends to prepare a Resource Management Plan (RMP) with an associated Environmental Impact Statement (EIS) for the Kasha-Katuwe Tent Rocks National Monument. The proposed RMP will replace the existing Rio Puerco RMP and Area of Critical Environmental Concern (ACEC) Protection Plan for the area that has become the Monument. Public-scoping meetings to identify relevant issues will be announced in advance through BLM's Web site, a newsletter, and in local news media.

DATES: Public-scoping meetings will be announced through the local news media, a newsletter, and the BLM Web site (www.nm.blm.gov) at least 15 days prior to the event. Formal opportunities for public participation will be provided upon publication of the BLM draft RMP/EIS.

ADDRESSES: To send written comments, and/or to have your name added to the mailing list, contact John Bristol, Project Leader, telephone 505-761-8755, or Kathy Walter, Monument Manager, telephone 505-761-8794, or write to them at the Bureau of Land Management, Albuquerque Field Office, 435 Montano Road NE, Albuquerque, New Mexico 87107-4935 or by fax at 505-761-8911.

FOR FURTHER INFORMATION CONTACT: John Bristol, Project Manager, at (505) 761-8755 (john_bristol@nm.blm.gov), or Kathy Walter, Monument Manager, at (505) 761-8794 (kathy_walter@nm.blm.gov).

SUPPLEMENTARY INFORMATION: This document provides notice that the BLM Field Office, Albuquerque, New Mexico, intends to prepare an RMP with an associated EIS for the Kasha-Katuwe Tent Rocks National Monument (KKTRNM). Since the area designated as the Monument was formerly the Tent Rocks ACEC designated under the 1986 Rio Puerco RMP, this planning process will also include a review of the existing Rio Puerco RMP decisions in the context of the National Monument status.

The planning area is located in Sandoval County, New Mexico, between the cities of Albuquerque and Santa Fe near the Pueblo de Cochiti. The planning activity encompasses approximately 4,114 acres of public land. The plan will fulfill the needs and obligations set forth by the National Environmental Policy Act (NEPA), the Federal Land Policy and Management Act (FLPMA), the Presidential Proclamation establishing the Monument, and BLM management policies. In 1997, a management agreement with the Pueblo de Cochiti was initiated for the purpose of managing collaboratively the Tent Rocks ACEC, the National Recreation Trail within the ACEC, and the Tent Rocks Fee Demonstration Program. In 2000, an Inter-Government Cooperative Agreement was signed between the BLM and the Pueblo de Cochiti to provide for more consistent, effective, and collaborative management of the Federal and Pueblo de Cochiti lands, as well as road access to the Monument through the Pueblo. The BLM will work with interested parties to identify management decisions that are best suited to local, regional, and National concerns while protecting the objects specified in the proclamation.

The Presidential Proclamation of January 17, 2001, No. 7394, set apart and reserved for the purpose of protecting the objects specified in the Proclamation, all lands and interests in lands owned or controlled by the United States within the boundaries of the area described as the KKTRNM. The Federal land and interests in land reserved consist of approximately 4,148 acres which is the smallest area compatible with the proper care and management of the objects to be protected. The proclamation directed the Secretary of the Interior to manage the Monument through the BLM, pursuant to applicable legal authorities and in close cooperation with the Pueblo de Cochiti, and to prepare a management plan for the Monument.

The area designated as the Monument was the Tent Rocks ACEC designated under the 1986 Rio Puerco RMP and actually includes approximately 4,114 acres of public lands, after recalculation. Therefore, the planning area includes 4,114 acres of public lands, 520 acres of State land, and 760 acres of private land within the boundary of the Monument, as well as private lands immediately adjacent to the Monument, which would be considered for acquisition from willing landowners.

This will be a stand-alone RMP for the Monument, but will include decisions established in the 1986 Rio Puerco RMP (maintained and reprinted in 1992) that have been or are being implemented for this area, particularly those consistent with the provisions of the proclamation and applicable to the Tent Rocks ACEC. The KKTRNM RMP will replace the existing Rio Puerco RMP and ACEC Protection Plan for the area that has become the Monument.

The purpose of the public-scoping process is to determine relevant issues that will influence the scope of the environmental analysis and EIS alternatives. These issues also guide the planning process. Comments on issues and planning criteria can be submitted in writing to the BLM at any public-scoping meeting or they may be mailed or faxed to the BLM as directed above. To be most helpful, formal scoping comments should be submitted within 15 days after the last public meeting, although scoping comments will be accepted throughout the creation of the Draft RMP/Draft EIS. The minutes and list of attendees for each scoping meeting will be available to the public and open for 30 days after the meeting to any participant who wishes to clarify the views expressed. Individual respondents may request confidentiality. If you wish to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, are available for public inspection in their entirety.

Issues presently being considered include: (1) Land tenure adjustment and how land ownership will be incorporated into the management of the Monument; (2) how access and transportation will be managed for the purposes of the Monument; (3) how recreational activities and visitor use will be managed; (4) how ecosystem restoration will benefit the public and the Monument; and (5) how American Indian uses and traditional cultural practices will be incorporated into the management of the Monument. Other issues may be raised through the scoping process. These issues have guided the preliminary work on this plan. They are being submitted to the public for consideration and comment during the scoping process.

The following criteria have been developed to guide the consideration, analysis, and resolution of these issues, as required by FLPMA and BLM's planning regulations (43 CFR 1610). They are open for discussion during the scoping process. Several of them relate to all issues, others relate to individual issues. Planning criteria ensure that plans are tailored to the identified issues, and that unnecessary data collection and analyses are avoided. Planning criteria are based on applicable law, agency guidance, public comment, and coordination with other Federal, State, and local governments and Native American Indian Tribes.

• The plan will be completed in compliance with FLPMA and all other applicable laws. It will meet the requirements of the Proclamation to protect the objects of geological, cultural, and biological interest appertaining to the Monument.

• The Monument planning team will work cooperatively with the Pueblo de Cochiti and other Tribal Governments, State of New Mexico, county and municipal governments, other Federal agencies, and all other interest groups, agencies, and individuals.

• The plan will establish the guidance upon which the BLM will rely in managing the Monument.

• The plan will be accompanied by an EIS based on NEPA standards.

• The plan will provide opportunities to study, observe, and experience the geologic processes as well as other cultural and biological objects of interest within the Monument. It will identify opportunities and priorities for research and education related to resources for which the Monument was created, and it will describe an approach for incorporating research into management actions.

• The plan will set forth a framework for managing recreational activities and experiences consistent with the Proclamation.

• The plan will recognize valid existing rights within the Monument and review how valid existing rights are verified. The plan will also outline the process used to address applications or notices filed after completion of the plan on existing claims or other land-use authorizations.

• The management of grazing is prescribed by laws and regulations; however, the Proclamation excludes grazing from within the Monument unless it can be determined that livestock grazing can advance the purpose of the Proclamation. This determination will be made through the plan.

• The lifestyles of area residents will be recognized in the plan.

• The Monument plan will recognize the State's responsibility and authority to manage wildlife, including hunting within the Monument.

• The acquisition of state and private inholdings within the Monument and private lands contiguous to the Monument will be considered.

• The plan alternatives will address transportation, vehicular, and other types of access.

Preliminary issues and management concerns have been identified by the BLM personnel, other agencies, the Pueblo de Cochiti, and individuals. They represent the BLM's knowledge to date on the existing issues and concerns with current management. After gathering public comments, the suggested issues will be placed in one of three categories:

1. Issues to be resolved in the plan.

2. Issues to be resolved independently of the plan.

3. Issues beyond the scope of the plan.

The BLM will address category one above in the land-use planning process and give rationale in the plan for issues placed in the other categories. Concepts for alternatives will be generated from category one.

In addition to the preceding issues, management questions and concerns that may be addressed in the plan include but are not limited to the following: management of culturally sensitive areas; protection and interpretation of cultural resources; use of Monument resources for scientific and educational purposes; fire and fuels management; wildlife habitat; threatened and endangered species habitat; scenic values; facilities and infrastructure needed to administer the area and provide visitor services; and an appropriate level of visitor use, since the Monument is located within a 1-hour drive of the growing major cities of Albuquerque, Rio Rancho, and Santa Fe, New Mexico.

(Authority: 40 CFR 1501.7)
Dated: January 15, 2004.
Leland G. Keesling,
Acting State Director.

[FR Doc. 04-1361 Filed 1-21-04; 8:45 am]

BILLING CODE 4310-AG-P